DEPARTMENT OF JUSTICE

Parole Commission

28 CFR Part 2

Paroling, Recommitting, and Supervising Federal Prisoners: Prisoners Serving Sentences Under the District of Columbia Code

Correction

In rule document 00-18602 beginning on page 45885 in the issue of Wednesday, July 26, 2000, make the following correction:

§2.80 [Corrected]

On page 45893, in §2.80(h), in the first column, in the fifth line, starting at “Total Points Guideline Recommendation” and continuing to the third column, ending with “appropriate action:”, should be removed.

[FR Doc. C0-18602 Filed 8-30-00; 8:45 am]

BILLING CODE 1505-01-D